DEPARTMENT OF ENERGY

Federal Energy Regulatory Commission

[Docket Nos. RP00-241-000 and RP00-241-006

Public Utilities Commission of the State of California v. El Paso Natural Gas Company, El Paso Merchant Energy-Gas, L.P., and El Paso Merchant Energy Company; Notice of Scheduling Oral Argument

November 1, 2002.

1. On October 9, 2001, the Chief Administrative Law Judge (Chief ALJ) issued an Initial Decision in Phase I of this proceeding (Docket No. RP00-241-000).¹ On September 23, 2002, the Chief ALJ issued a separate Initial Decision in Phase II of this proceeding (Docket No. RP00-241-006).² The parties have asked the Commission to provide for oral argument before the Commission.

¹ Public Utilities Commission of the State of California v. El Paso Natural Gas Co., 97 FERC ] 63,004 (2001).

² Public Utilities Commission of the State of California v. El Paso Natural Gas Co., 100 FERC ] 63,041 (2002).

2. Because oral argument will assist the Commission in its decision making in this case, we are scheduling oral argument to be held on December 2, 2002, at 10 a.m. in the Commission Meeting Room at 888 First Street, NE., Washington, DC 20426.

3. The Public Utilities Commission of the State of California and the parties aligned with it will be allotted a total of one and one-half hours to present their arguments, a portion of which may be reserved for rebuttal purposes. El Paso Natural Gas Company and El Paso Merchant Energy, L.P. also will be allotted one and one-half hours to present their arguments. No later than November 15, 2002, these parties must notify the Commission of the number of representatives they wish to present and the manner in which they desire to allocate their allotted time. The parties must be prepared to address all aspects of this case.

4. A transcript of the oral argument will be available immediately from Ace Reporting Company (202-347-3700 or 1-800-336-6646) for a fee. A transcript also will be available for the public on the Commission's FERRIS system two weeks after the oral argument. Additionally, Capitol Connection offers the opportunity for remote listening and viewing of the oral argument. It is available for a fee, live over the Internet, via C-Band Satellite. Persons interested in receiving the broadcast or needing information on making arrangements should contact David Reininger or Julia Morelli at the Capitol Connection (703-993-3100) as soon as possible or visit the Capitol Connection Web site at http://www.capitolconnection.gmu.edu and click on “FERC.”

Linwood A. Watson, Jr.,
Deputy Secretary.

[FR Doc. 02-28443 Filed 11-7-02; 8:45 am]

BILLING CODE 6717-01-P